DEPARTMENT OF LABOR

Employment and Training Administration

[TA-W-53,419, TA-W-53,419A, and TA-W-53,419B]

Encee, Inc., Eden, North Carolina, Kannapolis, North Carolina, Smithfield, North Carolina; Notice of Revised Determination on Reconsideration

By letter dated December 10, 2003, the company requested administrative reconsideration regarding the Department's Negative Determination Regarding Eligibility to Apply for Trade Adjustment Assistance and Alternative Trade Adjustment Assistance, applicable to the workers of the subject firms.

The initial investigation resulted in a negative determination issued on November 19, 2003, was based on the finding that the workers did not produce a product under the meaning of section 222 of the Act. The denial notice was published in the Federal Register on December 29, 2003 (68 FR 74978).

To support the request for reconsideration, the company supplied additional information to supplement that which was gathered during the initial investigation. The company indicated that Encee, Inc. is a wholly owned subsidiary division of Pillowtex Corporation. The petitioner further stated that functions of workers of Encee, Inc., Eden, North Carolina (TA-W-53,419), Kannapolis, North Carolina (TA-W-53,419A) and Smithfield, North Carolina (TA-W-53,419B) were dedicated to support activities at an existing trade-certified facility of Pillowtex Corporation.

An analysis of the information supplied by the company on their request for reconsideration revealed that the worker separations at the subject facilities were caused by a reduced demand for their services from a parent firm, whose workers produce an article and who are currently under certification for Trade Adjustment Assistance (TA-W-52,559). The investigation further revealed that employment at the subject facilities declined absolutely during the relevant period.

A review of the submitted documents revealed that at least five percent of the workforce at the subject facilities is at least fifty years of age and that the workers possess skills that are not easily transferable. Competitive conditions within the industry are adverse.

Conclusion

After careful review of the additional facts obtained on reconsideration, I determine that increased imports of articles like or directly competitive with those produced at an affiliated TAA certified firm contributed importantly to the declines in the total or partial separation of workers at the subject firm. In accordance with the provisions of the Act, I make the following certification:

All workers of Encee, Inc., Eden, North Carolina (TA-W-53,419), Encee, Inc. Kannapolis, North Carolina (TA-W-53,419A) and Encee, Inc., Smithfield, North Carolina (TA-W-53,419B), who became totally or partially separated from employment on or after October 24, 2002 through two years from the date of this certification, are eligible to apply for adjustment assistance under section 223 of the Trade Act of 1974, and are also eligible to apply for alternative trade adjustment assistance under section 246 of the Trade Act of 1974.

Signed in Washington, DC, this 26th day of January 2004.
Elliott S. Kushner,
Certifying Officer, Division of Trade Adjustment Assistance.

[FR Doc. 04-3318 Filed 2-13-04; 8:45 am]

BILLING CODE 4510-30-P